DEPARTMENT OF AGRICULTURE

Food and Nutrition Service

Agency Information Collection Activities: Proposed Collection; Comment Request—National School Lunch Program (NSLP) Direct Certification Improvement Study

AGENCY: Food and Nutrition Service, USDA.

ACTION: Notice.

SUMMARY: In accordance with the Paperwork Reduction Act of 1995, this notice invites the general public and other public agencies to comment on this proposed information collection. This collection for “National School Lunch Program Direct Certification Improvement Study” is a reinstatement with change of a previously approved data collection for “Feasibility of Computer Matching in the National School Lunch Program.” It builds on the data collection for “Feasibility of Computer Matching in the National School Lunch Program.” This study will collect information from State child nutrition (CN) and education agencies, as well as local education agencies (LEAs). The information collection will build on existing knowledge by examining current methods of direct certification used by State and local agencies and the challenges facing States and LEAs in attaining high matching rates.

DATES: Written comments must be received on or before May 10, 2011.

ADDRESSES: Comments are invited on (1) whether the proposed collection of information is necessary for the proper performance of the functions of the agency, including whether the information shall have practical utility; (2) the accuracy of the agency's estimate of the burden of the proposed collection of information, including the validity of the methodology and assumptions used; and (3) ways to minimize the burden of the collection of information on those who are to respond, including use of appropriate automated, electronic, mechanical, or other technological collection techniques or other forms of information technology.

Comments may be sent to Steven Carlson, Associate Administrator, Office of Research, Analysis, Communications, and Strategic Support, U.S. Department of Agriculture, Food and Nutrition Service, 3101 Park Center Drive, Room 1014, Alexandria, VA 22302. Comments may also be submitted via fax to the attention of Steve Carlson at 703-305-2020 or via e-mail to Steve.Carlson@fns.usda.gov. Comments will also be accepted through the Federal eRulemaking Portal. Go to http://www.regulations.gov, and follow the online instructions for submitting comments electronically.

All written comments will be open for public inspection at the office of the Food and Nutrition Service (FNS) during regular business hours (8:30 a.m. to 5 p.m. Monday through Friday) at 3101 Park Center Drive, Room 1014, Alexandria, Virginia 22302.

All responses to this notice will be summarized and included in the request for Office of Management and Budget (OMB) approval. All comments will be a matter of public record.

FOR FURTHER INFORMATION CONTACT: Requests for additional information or copies of the proposed information collection forms should be directed to Sheku Kamara at 703-305-2130.

SUPPLEMENTARY INFORMATION: Title: National School Lunch Program Direct Certification Improvement Study, which is an update to a previously approved data collection for “Feasibility of Computer Matching in the National School Lunch Program.”

OMB Number: 0584-0529.

Form Number: N/A.

Expiration Date: Not yet determined.

Type of Request: Reinstatement with change of previously approved data collection.

Abstract: Direct certification was required of States and LEAs in the Child Nutrition and WIC Reauthorization Act of 2004. Direct certification enables children in households that receive Supplemental Nutrition Assistance Program (SNAP) or other public assistance program benefits to be certified to receive school lunches without application. Use of direct certification has increased since the 2004 reauthorization but is still not universal, despite the mandate. In school year (SY) 2009-2010, 83 percent of National School Lunch Program (NSLP) districts directly certified children in SNAP households; these districts included 97 percent of all students in NSLP schools. Most States also now employ computer data-matching techniques—in which electronic files containing names and other identifying information of children from SNAP (or other programs) are matched against a student enrollment file containing the names and other identifying information, in order to directly certify categorically eligible students.

The core aims of the study are to describe current direct certification processes and procedures employed by States and LEAs; explore the relationship between these methods and overall direct certification performance measures; and identify steps for continuous improvement in data-matching techniques and tools to increase matching rates.

This project has 11 study objectives: (1) Update national information on current practice used by States and LEAs to conduct direct certification; (2) describe State information systems (IS) and databases that are used to conduct direct certification and what analyses are conducted to determine the efficiency of the data matching, and correlate State system and database characteristics with State performance measures, including those based on the agency's direct certification reporting; (3) develop a comprehensive, up-to-date reference library of data-matching algorithms and computer code used for NSLP direct certification at the State and local levels, including a library of the data elements, formats, and definitions for all variables used in the matching; (4) examine relationships between direct certification implementation procedures, information systems and databases, and State performance measures of direct certification; (5) determine what barriers exist in the use of data matching in direct certification in NSLP in different States and LEAs; (6) determine what States have been doing with direct certification grants awarded by Food and Nutrition Services (FNS), in terms of improvements made and their effects; (7) identify “best practices” that could be used to provide technical assistance to those States developing continuous improvement plans to reach higher rates of data matching; (8) examine the current plans for improvement of the direct certification process in the future and the capability to adopt any potential changes that may be required in the subsequent legislation; (9) explore the records of unmatched SNAP households with school-age children and of categorically eligible SNAP children (as determined by NSLP application) to determine how direct certification could be further improved; (10) to estimate the “national” direct certification matching rates under various scenarios (Optional Task); (11) to develop model continuous improvement plans for States using State-level matching and for States using local-level matching (Optional Task).

To address the study objectives, three key data collection tasks will be performed: (1) A national survey of direct certification practices of all 50 States, the District of Columbia, five territories, and of LEAs in those States where direct certification data matching is conducted at the district-level; (2) in-depth case studies in seven States and selected LEAs, which will include site visits to interview program and technical staff involved in direct certification at the State and LEA levels; and (3) an exploration of unmatched SNAP participant records and NSLP applications from a sample of districts within the seven case study States, which will form the basis for an analysis of the accuracy of the matches and provide insight into how data matching could be improved.

Taken together, the information collected will help FNS, State CN directors, and LEAs recognize promising trends, understand new approaches, and provide technical assistance for continuous improvement of their direct certification efforts.

Affected Public: State, Local or Tribal Government. Respondent groups identified include: (1) CN staff at the State level; (2) education staff at the State level; (3) State SNAP, Medicaid, and/or Temporary Assistance for Needy Families (TANF) program staff; and (4) staff from LEAs.

Estimated Number of Respondents: The study will collect data from a total of 7,949 respondents across all States. There are three categories of data collection: Web-based, national survey (States and LEAs); in-depth interviews during site-visits; and collection of unmatched SNAP participant records and NSLP applications. The Web-based, national survey will be conducted with 57 State (and territory) CN program directors and approximately 7,700 LEAs (2,500 LEAs will receive a long version of the survey; 5,200 LEAs will receive a short version). In-depth interviews during site visits will be conducted with 7 State CN agency officials; 7 State education staff; 7 State SNAP officials; 7 State Medicaid agency officials; 7 State TANF officials; 14 (2 per State) State IS staff; 18 LEA staff and 18 LEA IS staff. Records of unmatched SNAP participant records will be collected by 7 State staff and NSLP applications will be collected by 100 LEA staff.

Number of Responses per Respondent: 1.

Estimated Time per Response: For the Web-based, national survey, the burden estimate is 1.25 hours (75 minutes) for State CN staff and is inclusive of the respondents' time to prepare for and complete the survey; the burden estimate is 1.0 hour (60 minutes) for LEA staff completing a long version of the survey; and, 0.33 hours (20 minutes) for LEA staff completing the short version of the survey. For all persons who decline to participate in the survey, the burden estimate is 0.10 hours (6 minutes) and includes the respondents' time to read a letter and/or respond to a telephone call. For all respondents interviewed during the site visits, the burden estimate is 1.33 hours (80 minutes) and includes respondents' time to read an introductory letter, receive a reminder letter, and prepare for and participate in the visit. The burden for gathering unmatched SNAP records is 4.0 hours; the burden for LEA staff to gather NSLP applications is 4.0 hours.

Estimated Total Annual Burden on Respondents and Nonresponders: Total of 4,132.42 hours, including: State CN staff, 73.68 hours (includes Web-based survey and in-depth interviews); LEA staff, 3,950.80 hours (includes Web-based survey, in-depth interviews, and collection of NSLP applications); State education staff, 9.33 hours; State SNAP staff, 9.33 hours; State Medicaid staff, 9.33 hours; State TANF staff, 9.33 hours; State IS staff, 18.62 hours; LEA IS staff, 24 hours; and State staff, 28 hours.

Table 1—Estimated Burden per Respondent
Affected public | Respondent type | Estimated number of respondents | Responses annually per respondent | Total annual responses | Estimated average number of hours per response | Estimated total hours
State, Local and Tribal Agencies | Web Based Survey
| State CN staff (long survey) Complete | 51 | 1 | 51 | 1.25 | 63.75
| State CN staff (long survey) Attempted | 6 | 1 | 6 | .10 | .60
| LEA staff (long survey) Complete | 2,000 | 1 | 2,000 | 1.00 | 2,000
| LEA staff (long survey) Attempted | 500 | 1 | 500 | .10 | 50
| LEA staff (short survey) Complete | 4,160 | 1 | 4,160 | .33 | 1,372.8
| LEA staff (short survey) Attempted | 1,040 | 1 | 1,040 | .10 | 104
| Site Visits
| State CN staff | 7 | 1 | 7 | 1.33 | 9.33
| State education staff | 7 | 1 | 7 | 1.33 | 9.33
| State SNAP staff | 7 | 1 | 7 | 1.33 | 9.33
| State Medicaid staff | 7 | 1 | 7 | 1.33 | 9.33
| State TANF staff | 7 | 1 | 7 | 1.33 | 9.33
| State IS staff | 14 | 1 | 14 | 1.33 | 18.62
| LEA staff | 18 | 1 | 18 | 1.33 | 24
| LEA IS staff | 18 | 1 | 18 | 1.33 | 24
| Unmatched SNAP Records and NSLP Applications
| State staff (SNAP unmatched records) | 7 | 1 | 7 | 4 | 28
| LEA staff (NSLP applications) | 100 | 1 | 100 | 4 | 400
Total |  | 7,949 |  | 7,949 |  | 4,132.42

Dated: March 4, 2011.
Julia Paradis,
Administrator, Food and Nutrition Service.

[FR Doc. 2011-5627 Filed 3-10-11; 8:45 am]

BILLING CODE 3410-30-P